DEPARTMENT OF COMMERCE

National Oceanic and Atmospheric Administration

50 CFR Part 622

[Docket No. 1206013412-2517-02; RTID 0648-XF479]

Reef Fish Fishery of the Gulf of America; 2026 Commercial Accountability Measure for Gulf of America Greater Amberjack

AGENCY: National Marine Fisheries Service (NMFS), National Oceanic and Atmospheric Administration (NOAA), Commerce.

ACTION: Temporary rule; commercial accountability measure.

SUMMARY: NMFS implements an accountability measure (AM) for commercial greater amberjack in the Gulf of America (Gulf) exclusive economic zone (EEZ) for the 2026 fishing year through this temporary rule. NMFS has determined that Gulf greater amberjack landings in 2025 exceeded the commercial annual catch limit (ACL). Therefore, NMFS reduces both the commercial ACL and commercial annual catch target (ACT) for Gulf greater amberjack during the 2026 fishing year. This commercial ACL and ACT reduction is necessary to protect the Gulf greater amberjack resource.

DATES: This rule is effective, February 5, 2026, through December 31, 2026.

FOR FURTHER INFORMATION CONTACT: Kelli O'Donnell, NMFS Southeast Regional Office, telephone: 727-824-5305, or email: Kelli.ODonnell@noaa.gov.

SUPPLEMENTARY INFORMATION: The Gulf reef fish fishery, which includes greater amberjack, is managed under the Fishery Management Plan for the Reef Fish Resources of the Gulf (FMP). The FMP was prepared by the Gulf Fishery Management Council, approved by the Secretary of Commerce, and is implemented by NMFS under the authority of the Magnuson-Stevens Fishery Conservation and Management Act (Magnuson-Stevens Act) by regulations at 50 CFR part 622. All greater amberjack weights described in this temporary rule are in round weight.

The 2026 commercial ACL for Gulf greater amberjack is 101,000 pounds (lb) (45,813 kilograms (kg)), as specified in 50 CFR 622.41(a)(1)(iii). The 2026 commercial quota (equivalent to the commercial ACT) is 93,930 lb (42,606 kg), as specified in 50 CFR 622.39(a)(1)(v). However, NMFS has determined that in 2025, the commercial harvest of greater amberjack exceeded the 2025 commercial ACL of 101,000 lb (45,813 kg) by 8,184 lb (3,712 kg). As described in 50 CFR 622.41(a)(1)(ii), NMFS is required to reduce both the commercial ACL and the commercial ACT for greater amberjack in the year following an overage of the commercial ACL, by the amount of any commercial ACL overage. Consistent with the commercial AM, for the 2026 fishing year, NMFS reduces both the commercial ACL and the commercial ACT by 8,184 lb (3,712 kg), to 92,816 lb (42,101 kg) and 85,746 lb (38,894 kg), respectively.

Classification

NMFS issues this action pursuant to section 305(d) of the Magnuson-Stevens Act. This action is required by 50 CFR 622.41(a)(1)(ii), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the commercial AM and the commercial ACL and ACT have already been subject to notice and public comment, and all that remains is to notify the public of the updated commercial ACL and ACT for the 2026 fishing year. Prior notice and opportunity for public comment are contrary to the public interest because of the need to implement this action as soon as possible in order to protect the amberjack stock and provide sufficient notice to the industry for the 2026 fishing year.

For the aforementioned reasons, there is also good cause under 5 U.S.C. 553(d)(3) to waive the 30-day delay in effectiveness of this action.

Authority: 16 U.S.C. 1801 et seq.

Dated: February 2, 2026.
Kelly Denit,
Director, Office of Sustainable Fisheries, National Marine Fisheries Service.

[FR Doc. 2026-02290 Filed 2-4-26; 8:45 am]

BILLING CODE 3510-22-P